FEDERAL COMMUNICATIONS COMMISSION

Notice of Public Information Collection(s) Being Submitted for Review to the Office of Management and Budget

December 27, 2005.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before March 10, 2006. If you anticipate that you will be submitting PRA comments, but find it difficult to do so within the period of time allowed by this notice, you should advise the contact listed below as soon as possible.

ADDRESSES: Direct all Paperwork Reduction Act (PRA) comments to Judith B. Herman, Federal Communications Commission, Room 1-C804, 445 12th Street, SW., DC 20554 or via the Internet to Judith-B.Herman@fcc.gov. If you would like to obtain or view a copy of this information collection, you may do so by visiting the FCC PRA Web page at: http://www.fcc.gov/omd/pra.

FOR FURTHER INFORMATION CONTACT: For additional information or copies of the information collection(s), contact Judith B. Herman at 202-418-0214 or via the Internet at Judith-B.Herman@fcc.gov.

SUPPLEMENTARY INFORMATION: OMB Control No.: 3060-0645.

Title: Section 17.4, Antenna Registration.

Form No.: N/A.

Type of Review: Extension of a currently approved collection.

Respondents: Business or other for-profit, not-for-profit institutions, and state, local or tribal government.

Number of Respondents: 25,600.

Estimated Time per Response: .2-1.2 hours.

Frequency of Response: On occasion reporting requirement, recordkeeping requirement and third party disclosure requirement.

Total Annual Burden: 40,965 hours.

Total Annual Cost: $3,200,000.

Privacy Act Impact Assessment: N/A.

Needs and Uses: The requirements contained in Part 17 are necessary to implement a uniform registration process for owners of antenna structures. The following are the information collection requirements subject to OMB review and approval: (1) Antenna structure owners will be required to provide tenant licensees with a copy of the antenna registration; (2) display the registration number on or around the antenna structure; (3) notify of improperly function of antenna structure lights; and (4) recording of improperly function of antenna structure lights. The information will be used by the Commission during investigations related to air safety or radio frequency interference. A registration number will be issued to identify antenna structure owners in order to enforce congressionally mandated provisions related to the owners. The Commission is submitting this information collection to OMB as an extension (no change in requirements) in order to obtain the full three year clearance.

OMB Control No.: 3060-0901.

Title: Reports of Common Carriers and Affiliates.

Form No.: N/A.

Type of Review: Extension of a currently approved collection.

Respondents: Business or other for-profit, not-for-profit institutions, and state, local or tribal government.

Number of Respondents: 20 respondents; 1,200 responses.

Estimated Time per Response: 5 hours.

Frequency of Response: On occasion and one-time reporting requirements, and third party disclosure requirement.

Total Annual Burden: 6,000 hours.

Total Annual Cost: N/A.

Privacy Act Impact Assessment: N/A.

Needs and Uses: The Commission is submitting this information collection to OMB as an extension (no change in requirements) in order to obtain the full three year clearance. The rules applicable to this information collection are contained in Section 43.51(a). This rule requires, in part, that common carriers file copies of all contracts entered into with a communications entity in a foreign point for the provision of a common carriers service between the United States and that foreign point. In a Report and Order and Order on Reconsideration adopted in May 1999, the Commission amended Section 43.51 to exempt from this requirement U.S. carriers that enter into such a contract with a foreign carrier that lacks market power. The Commission also amended Section 43.51 with respect to carriers filing agreements with foreign carriers that have market power on routes for which the Commission eliminated the International Settlements Policy. It amended the rules specifically to permit these carriers to request confidential treatment of and to redact from the public view, the rates, terms and conditions that govern the settlement of international traffic.

OMB Control No.: 3060-0678.

Title: Part 25 of the Commission's Rules Governing the Licensing of, and Spectrum Usage by, Satellite Network Stations and Space Stations.

Form No.: FCC 312, Schedule S.

Type of Review: Revision of a currently approved collection.

Respondents: Business or other for-profit.

Number of Respondents: 3,432.

Estimated Time per Response: 1-40 hours.

Frequency of Response: On occasion and annual reporting requirements, and third party disclosure requirement.

Total Annual Burden: 42,108 hours.

Total Annual Cost: $608,401,936.

Privacy Act Impact Assessment: N/A.

Needs and Uses: The Commission has revised this information collection in a Third Notice of Proposed Rulemaking, FCC 05-62. In this proceeding, the Commission proposed to combine power level requirements and antenna diameter requirements into one off-axis equivalent isotropically radiated power (EIRP) requirement. (EIRP is the product of the gain of the antenna in a given direction relative to an isotropic antenna and the power supplied to that antenna.) If this proposal is adopted, it would give earth station operators more flexibility in their operations and help expedite its review of some non-routine earth station applications. The Commission invited comments on what revisions would be necessary to its rules to provide protection from interference for earth stations in the event that it adopts an off-axis EIRP requirement for fixed satellite service (FSS) earth stations. Additionally, the Commission invited comment on what specific information should be required from earth station applicants in order to comply with the proposed off-axis EIRP requirement. The following new information collection requirements are proposed in the rulemaking: (1) Earth station applicants will provide a table showing the EIRP of the antenna at various specific off-axis angles; (2) Very Small Aperture Terminal (VSAT) licensees will certify that they will meet any applicable requirements for contention protocols adopted in this proceeding; (3) any party questioning a license applicant's contention protocol certification will provide a technical analysis showing that the applicant's planned contention protocol usage is likely to cause harmful interference to adjacent satellites or terrestrial wireless operations; and (4) a certificate of coordination signed by an authorized representative of the National Radio Astronomy Observatory (NRAO) will be made to the Commission upon request.

If the proposals are adopted by the Commission, it is anticipated that the FCC Form 312 will be revised and/or new applications will be developed to accommodate the off-axis EIRP requirement for earth stations. Furthermore, the modification of the FCC Form 312 and/or creation of new applications would necessitate revisions to the International Bureau Filing System (IBFS) so that applicants can file the new or revised applications electronically with the Commission.

(Note: No changes to the Schedule S will be required to accommodate the off-axis EIRP requirement for earth stations.)
Federal Communications Commission.
Marlene H. Dortch,
Secretary.

[FR Doc. 06-1058 Filed 2-7-06; 8:45 am]

BILLING CODE 6712-01-P